DEPARTMENT OF THE INTERIOR

Bureau of Land Management

[LLWO320000 L13300000.PO0000]

Agency Information Collection Activities; OMB Control Number 1004-0103; Mineral Materials Disposal

AGENCY: Bureau of Land Management, Interior.

ACTION: Notice; request for comments.

SUMMARY: In compliance with the Paperwork Reduction Act, the Bureau of Land Management (BLM) provides 60-day notice, invites public comments on, and plans to request approval to continue, the collection of information from applicants for authorization to purchase mineral materials from public lands. The Office of Management and Budget (OMB) has assigned control number 1004-0103 to this information collection.

DATES: Please submit comments on the proposed information collection by August 22, 2017.

ADDRESSES: Comments may be submitted by mail, fax, or electronic mail. Mail: U.S. Department of the Interior, Bureau of Land Management, 1849 C Street NW., Room 2134LM, Attention: Jean Sonneman, Washington, DC 20240. Fax: Jean Sonneman at 202-245-0050. Electronic mail: Jean_Sonneman@blm.gov. Please indicate “Attn: 1004-0103” regardless of the form of your comments.

FOR FURTHER INFORMATION CONTACT: George Brown, Division of Solid Minerals, at 202-912-7118. Persons who use a telecommunication device for the deaf may call the Federal Relay Service at 1-800-877-8339, to leave a message for Mr. Brown.

SUPPLEMENTARY INFORMATION: OMB regulations at 5 CFR 1320, which implement provisions of the Paperwork Reduction Act, 44 U.S.C. 3501-3521, require that interested members of the public and affected agencies be given an opportunity to comment on information collection and recordkeeping activities (see 5 CFR 1320.8(d) and 1320.12(a)). This notice identifies an information collection that the BLM will be submitting to OMB for approval. The Paperwork Reduction Act provides that an agency may not conduct or sponsor a collection of information unless it displays a valid OMB control number. Until OMB approves a collection of information, you are not obligated to respond.

The BLM will request a 3-year term of approval for this information collection activity. Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany our submission of the information collection requests to OMB.

Before including your address, telephone number, email address, or other personal identifying information in your comments, be advised that your entire comment—including your personal identifying information—may be made publicly available at any time. While you can ask in your comment to withhold from public review your personal identifying information, we cannot guarantee that we will be able to do so.

The following information is provided for the information collection:

Title: Sale of Mineral Materials (43 CFR part 3600).

OMB Control Number: 1004-0103.

Summary: The Mineral Materials Act, 30 U.S.C. 601 and 602, authorizes disposals of mineral materials (such as sand, gravel, and petrified wood) from public lands. This information collection request pertains to mineral sales contracts in accordance with regulations at 43 CFR part 3600.

Frequency of Collection: On occasion.

Forms: 3600-9, Contract for the Sale of Mineral Materials.

Estimated Number and Description of Respondents: An estimated 265 businesses annually submit applications to purchase or use mineral materials from public lands.

Estimated Annual Responses: 3,870.

Estimated Annual Burden Hours: 5,834.

Estimated Annual Non-Hour Costs: $141,592.

The following table details the individual components and respective hour burdens of this information collection request:

A. Type of response | B. Number of responses | C. Time per response | D. Total hours (column B × column C)
Pre-Application Sampling and Testing 43 CFR 3601.30 | 10 | 30 minutes | 5
Request for Sale Within a Community Pit or Common Use Area 43 CFR 3602.11 | 165 | 30 minutes | 83
Request for Sale Not Within a Community Pit or Common Use Area 43 CFR 3602.11 | 100 | 30 minutes | 50
Mining and Reclamation Plans (Simple) 43 CFR 3601.40 | 240 | 2 hours | 480
Mining and Reclamation Plans (Complex) 43 CFR 3601.40 | 25 | 30 hours | 750
Contract for the Sale of Mineral Materials 43 CFR subpart 3602 Form 3600-9 | 265 | 30 minutes | 133
Performance Bond 43 CFR 3602.14 | 265 | 30 minutes | 133
Report of Mineral Materials Mined or Removed 43 CFR 3602.29 | 1,400 | 1 hour 30 minutes | 2,100
Records Maintenance 43 CFR 3602.28 | 1,400 | 1 hour 30 minutes | 2,100
Totals | 3,870 |  | 5,834

Authorities

The authorities for this action are the Mineral Materials Act (30 U.S.C. 601-602) and the Paperwork Reduction Act (44 U.S.C. 3501—3521).

Mark Purdy,
Bureau of Land Management, Management Analyst.

[FR Doc. 2017-13153 Filed 6-22-17; 8:45 am]

BILLING CODE 4310-84-P